DEPARTMENT OF COMMERCE

National Oceanic and Atmospheric Administration

RIN 0648-XM59

International Whaling Commission; Intersessional Meeting on the Future of the International Whaling Commission; Nominations

AGENCY: National Marine Fisheries Service (NMFS), National Oceanic and Atmospheric Administration (NOAA), Commerce.

ACTION: Notice; request for nominations.

SUMMARY: This notice calls for nominees for one non-federal position to the U.S. Delegation to the Intersessional Meeting on the Future of the International Whaling Commission (IWC) that will be held in March 2009, in Rome, Italy. The non-federal representative selected as a result of this nomination process is responsible for providing input and recommendations to the U.S. IWC Commissioner representing the positions of non-governmental organizations.

DATES: Written nominations must be received by February 8, 2009.

ADDRESSES: All nominations for the U.S. Delegation to the IWC annual meeting must be addressed to Bill Hogarth, U.S. Commissioner to the IWC, and sent via post to: Ryan Wulff, National Marine Fisheries Service, Office of International Affairs, 1315 East-West Highway, SSMC3 Room 12620, Silver Spring, MD 20910.

FOR FURTHER INFORMATION CONTACT: Ryan Wulff, 301-713-2276, ext. 196.

SUPPLEMENTARY INFORMATION: The Secretary of Commerce is charged with the responsibility of discharging the domestic obligations of the United States under the International Convention for the Regulation of Whaling, 1946. The U.S. IWC Commissioner (Commissioner) has responsibility for the preparation and negotiation of U.S. positions on international issues concerning whaling and for all matters involving the IWC. The Commissioner is staffed by the Department of Commerce and assisted by the Department of State, the Department of the Interior, the Marine Mammal Commission, and by other agencies. The non-federal representative selected as a result of this nomination process is responsible for providing input and recommendations to the Commissioner regarding the positions of non-governmental organizations.

The Intersessional Meeting on the Future of the IWC will be held March 9-11, 2009, at the offices of the Food and Agriculture Organization of the United Nations in Rome, Italy.

Dated: January 6, 2009.
Rebecca Lent,
Director, Office of International Affairs, National Marine Fisheries Service.

[FR Doc. E9-370 Filed 1-12-09; 8:45 am]

BILLING CODE 3510-22-S